DEPARTMENT OF COMMERCE

Foreign-Trade Zones Board

[Docket 56-2008]

Foreign-Trade Zone 20—Suffolk, VA Correction to Application for Subzone Status STIHL Incorporated (Outdoor Power Products Manufacturing and Distribution) Virginia Beach, VA

A technical correction has been submitted to the Foreign-Trade Zones Board (the Board) by STIHL Incorporated (STIHL) regarding the company's application requesting special-purpose subzone status for the company's outdoor power products manufacturing facilities located in Virginia Beach, Virginia (73 FR 60677-60678, 10/14/2008).

Several manufacturing inputs listed in the application for which the company is requesting manufacturing authority were incorrectly identified as being duty free. These inputs with the correct duty rates are as follows: Ethylene polymers (6.5 percent); articles of natural cork (14 percent); miscellaneous copper articles (3 percent); filtering or purifying machinery (2.5 percent); spray guns (2.9 percent); and, hand tools with self-contained electric motors (1.7 percent). Additionally, a duty-free input (vulcanized cellular rubber articles) was inadvertently omitted from the application. The application otherwise remains unchanged.

Dated: November 14, 2008.
Andrew McGilvray,
Executive Secretary.

[FR Doc. E8-27763 Filed 11-20-08; 8:45 am]

BILLING CODE 3510-DS-P